DEPARTMENT OF ENERGY

Federal Energy Regulatory Commission

[Docket No. RP98-40-035]

Panhandle Eastern Pipe Line Company, LLC; Notice of Refund Report

May 21, 2004.

Take notice that on May 18, 2004, Panhandle Eastern Pipe Line Company, LLC (Panhandle) tendered for filing its Refund Report.

Panhandle states that Appendix A to the filing reflects the work papers and documentation of Anadarko Petroleum Corp., OXY USA Inc., Duke Energy Services, Inc., and Dorchester Hugoton, Ltd., which support the March 29, 2004, distribution of these Kansas ad valorem tax refunds. Appendix B to the filing reflects the work papers and documentation of IMC Global, Inc. and ONEOK Energy Resources Company, which support the April 29, 2004, distribution of these Kansas ad valorem tax refunds. Appendix C to the filing shows the status of the remaining Non-Settling First Sellers. Appendix D to the filing reflects the refund amount received from Southland Royalty Company/Burlington Resources Oil & Gas Company with additional interest calculated through March 31, 2004.

Panhandle states that a copy of this information is being sent to intervenors in the subject proceeding, Non-Settling First Sellers, Panhandle's affected customers, and respective State Regulatory Commissions.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: May 28, 2004.

Magalie R. Salas,
Secretary.

[FR Doc. E4-1238 Filed 5-28-04; 8:45 am]

BILLING CODE 6717-01-P